DEPARTMENT OF ENERGY

Federal Energy Regulatory Commission

Combined Notice of Filings #1

Take notice that the Commission received the following electric rate filings:

Docket Numbers: ER10-2984-012.

Applicants: Merrill Lynch Commodities, Inc.

Description: Notice of Non-Material Change in Status of Merrill Lynch Commodities, Inc.

Filed Date: 7/25/13.

Accession Number: 20130725-5153.

Comments Due: 5 p.m. ET 8/15/13.

Docket Numbers: ER10-3184-001; ER10-2805-001.

Applicants: FortisUS Energy Corporation, Central Hudson Gas & Electric Corp.

Description: Notice of Change in Status of FortisUS Energy Corporation, et. al.

Filed Date: 7/26/13.

Accession Number: 20130726-5127.

Comments Due: 5 p.m. ET 8/16/13.

Docket Numbers: ER10-3260-003.

Applicants: Granite Ridge Energy, LLC.

Description: Notice of Non-Material Change in Status of Granite Ridge Energy, LLC.

Filed Date: 7/25/13.

Accession Number: 20130725-5152.

Comments Due: 5 p.m. ET 8/15/13.

Docket Numbers: ER10-3286-004; ER10-3299-003; ER10-3310-005.

Applicants: Millennium Power Partners, L.P., New Athens Generating Company, LLC, New Harquahala Generating Company, LLC.

Description: Notice of Non-Material Change in Status of Millennium Power Partners, L.P.

Filed Date: 7/25/13.

Accession Number: 20130725-5151.

Comments Due: 5 p.m. ET 8/15/13.

Docket Numbers: ER13-692-005.

Applicants: Midcontinent Independent System Operator, Inc.

Description: 2013-07-26 Withdraw of OASIS Compliance Errata to be effective N/A.

Filed Date: 7/26/13.

Accession Number: 20130726-5014.

Comments Due: 5 p.m. ET 8/16/13.

Docket Numbers: ER13-1327-001.

Applicants: Public Service Company of Colorado.

Description: Public Service Company of Colorado submits tariff filing per 35: 2013-7-26_WestConnect_Concur_Participation Agrmt to be effective 7/28/2013.

Filed Date: 7/26/13.

Accession Number: 20130726-5099.

Comments Due: 5 p.m. ET 8/16/13.

Docket Numbers: ER13-1389-001.

Applicants: El Paso Electric Company.

Description: Concurrence of EPE with WestConnect Regional PTP Participation Agreement to be effective 7/1/2013.

Filed Date: 7/25/13.

Accession Number: 20130725-5103.

Comments Due: 5 p.m. ET 8/15/13.

Docket Numbers: ER13-1493-001.

Applicants: Public Service Company of New Mexico.

Description: OATT Section 2.2 Compliance to be effective 7/15/2013.

Filed Date: 7/26/13.

Accession Number: 20130726-5000.

Comments Due: 5 p.m. ET 8/16/13.

Docket Numbers: ER13-1585-001.

Applicants: Longfellow Wind, LLC.

Description: Supplement to May 30, 2013 Application for Market-Based Rate Authority to be effective 7/30/2013.

Filed Date: 7/25/13.

Accession Number: 20130725-5101.

Comments Due: 5 p.m. ET 8/15/13.

Docket Numbers: ER13-2025-000.

Applicants: Southwest Power Pool, Inc.

Description: 2548R2 KMEA and Westar Energy Meter Agent Agreement to be effective 7/1/2013.

Filed Date: 7/25/13.

Accession Number: 20130725-5081.

Comments Due: 5 p.m. ET 8/15/13.

Docket Numbers: ER13-2026-000.

Applicants: Louisville Gas and Electric Company.

Description: 2nd Amd and Restated Trans Coordination Agmt to be effective 9/17/2013.

Filed Date: 7/25/13.

Accession Number: 20130725-5088.

Comments Due: 5 p.m. ET 8/15/13.

Docket Numbers: ER13-2027-000.

Applicants: DWP Energy Holdings, LLC.

Description: DWP Energy Holdings, LLC Market Based Rate Filing to be effective 8/1/2013.

Filed Date: 7/25/13.

Accession Number: 20130725-5089.

Comments Due: 5 p.m. ET 8/15/13.

Docket Numbers: ER13-2028-000.

Applicants: Southwest Power Pool, Inc.

Description: 1374R12 Kansas Power Pool and Westar Meter Agent Agreement to be effective 7/1/2013.

Filed Date: 7/25/13.

Accession Number: 20130725-5098.

Comments Due: 5 p.m. ET 8/15/13.

Docket Numbers: ER13-2029-000.

Applicants: PJM Interconnection, L.L.C.

Description: Queue Position Y3-074; Original Service Agreement No. 3595 to be effective 7/8/2013.

Filed Date: 7/25/13.

Accession Number: 20130725-5128.

Comments Due: 5 p.m. ET 8/15/13.

Docket Numbers: ER13-2030-000.

Applicants: Northern States Power Company, a Minnesota Corporation.

Description: 2013-7-25_CHAK Bluff Ck Repl Ltr Agrmt_556_0.0.0 to be effective 9/23/2013.

Filed Date: 7/25/13.

Accession Number: 20130725-5131.

Comments Due: 5 p.m. ET 8/15/13.

Docket Numbers: ER13-2031-000.

Applicants: Southwest Power Pool, Inc.

Description: Withdrawal Revisions Bylaws/MA to be effective 9/23/2013.

Filed Date: 7/25/13.

Accession Number: 20130725-5140.

Comments Due: 5 p.m. ET 8/15/13.

Docket Numbers: ER13-2032-000.

Applicants: PJM Interconnection, L.L.C.

Description: Original Service Agreement No. 3611; Queue No. Y2-051 to be effective 4/4/2013.

Filed Date: 7/25/13.

Accession Number: 20130725-5142.

Comments Due: 5 p.m. ET 8/15/13.

Docket Numbers: ER13-2033-000.

Applicants: Southwest Power Pool, Inc.

Description: Withdrawal Revisions Tariff to be effective 9/23/2013.

Filed Date: 7/25/13.

Accession Number: 20130725-5144.

Comments Due: 5 p.m. ET 8/15/13.

Docket Numbers: ER13-2034-000.

Applicants: Tucson Electric Power Company.

Description: WestConnect Rate Schedule, Part. Agmt, Pt-to-Pt Reg. Transmission Service to be effective 7/1/2013.

Filed Date: 7/26/13.

Accession Number: 20130726-5078.

Comments Due: 5 p.m. ET 8/16/13.

Docket Numbers: ER13-2035-000.

Applicants: Central Hudson Gas & Electric Corporation.

Description: Update to MBR Tariff to Reflect Category 1 Status in All Regions to be effective 9/22/2010.

Filed Date: 7/26/13.

Accession Number: 20130726-5101.

Comments Due: 5 p.m. ET 8/16/13.

Docket Numbers: ER13-2036-000.

Applicants: Interstate Power and Light Company.

Description: IPL Rate Schedule for Blackstart Resource Services to be effective 9/24/2013.

Filed Date: 7/26/13.

Accession Number: 20130726-5119.

Comments Due: 5 p.m. ET 8/16/13.

Docket Numbers: ER13-2037-000.

Applicants: Niagara Mohawk Power Corporation.

Description: Niagara Mohawk Power Corporation submits Notice of Cancellation of Rate Schedule No. 249.

Filed Date: 7/26/13.

Accession Number: 20130726-5122.

Comments Due: 5 p.m. ET 8/16/13.

Docket Numbers: ER13-2038-000.

Applicants: Hess Corporation.

Description: Application for Tariff Waiver to submit exception for must-offer bid requirement, by Hess Corporation.

Filed Date: 7/26/13.

Accession Number: 20130726-5129.

Comments Due: 5 p.m. ET 8/2/13.

Docket Numbers: ER13-2039-000.

Applicants: Southwest Power Pool, Inc.

Description: Appendix 1 to Attachment M—Westar Loss Factor Update to be effective 9/1/2012.

Filed Date: 7/26/13.

Accession Number: 20130726-5133.

Comments Due: 5 p.m. ET 8/16/13.

Take notice that the Commission received the following land acquisition reports:

Docket Numbers: LA13-2-000,

Applicants: Blue Sky East, LLC, Canandaigua Power Partners, LLC, Canandaigua Power Partners II, LLC, Erie Wind, LLC, Evergreen Wind Power, LLC, Evergreen Wind Power III, LLC, First Wind Energy Marketing, LLC, Milford Wind Corridor Phase I, LLC, Milford Wind Corridor Phase II, LLC, Palouse Wind, LLC, Niagara Wind Power, LLC, Stetson Holdings, LLC, Stetson Wind II, LLC, Vermont Wind, LLC.

Description: Quarterly Land Acquisition Report of Blue Sky East, LLC, et al.

Filed Date: 7/25/13.

Accession Number: 20130725-5113.

Comments Due: 5 p.m. ET 8/15/13.

Take notice that the Commission received the following public utility holding company filings:

Docket Numbers: PH13-21-000.

Applicants: Fortis Inc., FortisUS Holdings Nova Scotia Limited, FortisUS Inc.,CH Energy Group, Inc.

Description: Fortis, Inc. and Certain Subsidiaries submit FERC-65-B Waiver Notification.

Filed Date: 7/26/13.

Accession Number: 20130726-5121.

Comments Due: 5 p.m. ET 8/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2013.
Nathaniel J. Davis, Sr.,
Deputy Secretary.

[FR Doc. 2013-18662 Filed 8-1-13; 8:45 am]

BILLING CODE 6717-01-P